DEPARTMENT OF COMMERCE

National Oceanic and Atmospheric Administration

[I.D. 112003C]

Endangered and Threatened Species; Take of Anadromous Fish

AGENCY: National Marine Fisheries Service (NMFS), National Oceanic and Atmospheric Administration, Commerce.

ACTION: Issuance of three scientific research permit modifications (1140, 1335, 1369).

SUMMARY: Between June 30, 2003 and September 24, 2003, NMFS' Northwest Region issued three permit modifications allowing endangered and threatened species of Pacific salmon and steelhead to be taken for scientific research purposes under the Endangered Species Act of 1973 (ESA). The research actions and the species they affect are listed in the “Supplementary Information” section below.

ADDRESSES: The permits, permit applications, and related documents are available for review during business hours by appointment at NMFS' Protected Resources Division, 525 NE Oregon Street, Suite 500, Portland, OR 97232-2737 (phone: 503-230-5400, fascimile: 503-230-5435).

FOR FURTHER INFORMATION CONTACT: Garth Griffin, Portland, OR (phone: 503-231-2005, fascimile: 503-230-5435, e-mail: Garth.Griffin@noaa.gov).

SUPPLEMENTARY INFORMATION:

Authority

The ESA requires that permit modifications be issued based on findings that such actions: (1) Are applied for in good faith; (2) would not operate to the disadvantage of the listed species that are the subject of the actions; and (3) are consistent with the purposes and policies set forth in section 2 of the ESA. Authority to take listed species is subject to conditions set forth in the permits. Permits, modifications, and amendments are issued in accordance with, and are subject to, the ESA and NMFS' regulations governing listed fish and wildlife permits (50 CFR parts 222-226).

Species Covered in this Notice

The listed species/evolutionarily significant units (ESUs) covered by this notice are threatened Puget Sound (PS) chinook salmon (Oncorhynchus tshawytscha), threatened Snake River (SnR) chinook salmon, threatened Upper Willamette River (UWR) chinook salmon, threatened Lower Columbia River (LCR) chinook salmon, and threatened Oregon Coast (OC) Coho (O. kisutch).

Dated: December 8, 2003.
Phil Williams,
Chief, Endangered Species Division, Office of Protected Resources, National Marine Fisheries Service.

[FR Doc. 03-30797 Filed 12-11-03; 8:45 am]

BILLING CODE 3510-22-S